DEPARTMENT OF TRANSPORTATION

Federal Aviation Administration

14 CFR Part 71

[Docket No. FAA-2020-0823; Airspace Docket No. 20-AAL-49]

RIN 2120-AA66

Amendment To Separate Terminal Airspace Areas From Norton Sound Low, Woody Island Low, Control 1234L, and Control 1487L Offshore Airspace Areas; Alaska

AGENCY: Federal Aviation Administration (FAA), DOT.

ACTION: Final rule, withdrawal.

SUMMARY: This action withdraws the final rule published in the Federal Register on April 12, 2021 amending the following Offshore Airspace Areas in Alaska: Norton Sound Low, Woody Island Low, Control 1234L, and Control 1487L. The FAA has determined that withdrawal of the final rule is warranted since there are actions taking place to correct the terminal airspace contained in the Offshore airspace that may cause an overlap and further confuse general aviation and air traffic control.

DATES: Effective date 0901 UTC, May 25, 2021, the final rule published in the Federal Register (86 FR 18890; April 12, 2021), is withdrawn.

FOR FURTHER INFORMATION CONTACT: Christopher McMullin, Rules and Regulations Group, Office of Policy, Federal Aviation Administration, 800 Independence Avenue SW, Washington, DC 20591; telephone: (202) 267-8783.

SUPPLEMENTARY INFORMATION:

History

The FAA published a final rule for Docket No. FAA-2020-0823 in the Federal Register (86 FR 18890; April 12, 2021) to reverse the final rule for Docket No. FAA-2006-25852 in the Federal Register (72 FR 31714; June 8, 2007; as corrected 72 FR 37430, July 10, 2007) that amended the offshore airspace areas, including: Norton Sound Low, Woody Island Low, Control 1234L, and Control 1487L Offshore Airspace Areas; Alaska, to include terminal airspace previously thought to be excluded in the Code of Federal Regulations. Additionally, the final rule corrected the final rule for Docket No. FAA-2006-26164 in the Federal Register (72 FR 5611; February 7, 2007) that revoked Class E Airspace for Adak, ATKA, Cold Bay, Nelson Lagoon, Saint George Island, Sand Point, Shemya, St. Paul Island, and Unalaska, AK. Subsequent to the NPRM being posted, the FAA identified 15 facilities and navigation aids that contained language in the legal descriptions excluding airspace beyond 12 nautical miles (NM) from the coastline. If the exclusionary language were allowed to take effect, these areas would be without controlled airspace in violation of FAA directives. As a result, the additional corrections were included in the final rule.

The FAA is in the process of reviewing and correcting the terminal airspace in and around Alaska. Continuing with this final rule may cause some confusion with all the changes taking place. Therefore, the final rule is being withdrawn.

Lists of Subjects in 14 CFR Part 71

Airspace, Incorporation by reference, Navigation (air).

The Withdrawal

Accordingly, pursuant to the authority delegated to me, the final rule, Airspace Docket 20-AAL-49, as published in the Federal Register (86 FR 18890; April 12, 2021), FR Doc. 2021-07432 is hereby withdrawn.

Authority: 49 U.S.C. 106(f), 106(g); 40103, 40113, 40120; E.O. 10854, 24 FR 9565, 3 CFR, 1959-1963 Comp., P. 389.

Issued in Washington, DC, on May 10, 2021.
George Gonzalez,
Acting Manager, Rules and Regulations Group.

[FR Doc. 2021-10443 Filed 5-24-21; 8:45 am]

BILLING CODE 4910-13-P